DEPARTMENT OF THE INTERIOR

Bureau of Land Management

[BLM_CA_FRN_MO4500178668]

Notice of Application for Extension of Withdrawal and Public Meeting; Notice of Legal Description and Map Availability, California

AGENCY: Bureau of Land Management, Interior.

ACTION: Notice of proposed extension.

SUMMARY: The U.S. Department of the Army (Army) filed an application with the Bureau of Land Management (BLM) for extension of the withdrawal created by the National Defense Authorization Act for Fiscal Year 2002 (2002 Act) for an additional 25-year term. The withdrawal created by the 2002 Act, enacted on December 28, 2001, expires on December 27, 2026, unless extended by Congress. The 2002 Act withdrew public land from all forms of appropriation under the general land laws, including the mining laws and mineral and geothermal leasing laws, to conduct combined arms military training and develop and test military equipment at Fort Irwin National Training Center in San Bernardino County, California, and for other defense-related purposes. This notice also provides official publication of the legal land description and location of the map for the National Training Center withdrawal created by the 2002 Act. This notice initiates a 90-day comment period on the Army's application and announces that the BLM and the Army will hold a public meeting on the application. While the BLM will process the application, only Congress can extend the withdrawal.

DATES: The BLM must receive all comments by October 24, 2024. The BLM and the Army will hold an in-person and virtual public meeting in connection with the proposed withdrawal extension on September 9, 2024, at 6:30 p.m. to 8:30 p.m. Pacific Time. The BLM will publish a notice of the time and online venue in the Press-Enterprise and the San Bernardino Sun local newspapers and the BLM California website at https://www.blm.gov/california for a minimum of 30 days before the scheduled date of the meeting and instructions for the public to access the meeting.

ADDRESSES: Comments should be sent to the Sarah Naranjo, Realty Specialist, BLM California State Office, Attn: Fort Irwin Withdrawal, 2800 Cottage Way, W-1623 Sacramento, CA 95825-1886 or by email at BLM_CA_SO_FortIrwinComments@blm.gov. For instructions on submitting public comments visit: https://www.blm.gov/california.

FOR FURTHER INFORMATION CONTACT: Ms. Sarah Naranjo, Realty Specialist, Bureau of Land Management, California State Office, telephone: (505) 954-2200, email: snaranjo@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In the 2002 Act (Pub. L. 107-107 (115 Stat. 1012)), Congress withdrew approximately 117,710 acres of public lands in San Bernardino County, California, from all forms of appropriation under the general land laws, including the mining laws and mineral and geothermal leasing laws, subject to valid existing rights, and reserved the land for the Army's use at the Fort Irwin National Training Center and transferred administrative jurisdiction over the lands to the Army. This withdrawal will expire on December 27, 2026, unless extended by Congress. The Army submitted an application for extension of this withdrawal for an additional 25 years.

The legal description for public lands withdrawn for use by the Army at the Fort Irwin National Training Center is as follows:

Mount Diablo Meridian, California

T. 31 S., R. 46 E.,

Sec. 1, lots 1 and 2 in NE¼ and SE¼;

Sec. 2, lots 1 and 2 in NE¼;

Sec. 3, W½ lot 1 in NW¼ and W½ lot 2 in NW¼;

Sec. 4;

Sec. 5, lots 1 and 2 in NE¼, lots 1 and 2 in NW¼, and SW¼;

Sec. 8;

Sec. 9, S½;

Sec. 10, SE¼;

Sec. 11;

Sec. 12, N½ and SW¼;

Sec. 13, NW¼ and SE¼;

Sec. 14, N½ and S½ SE¼;

Secs. 15 and 17;

Sec. 20, W½NE¼ and W½SE¼;

Sec. 21, NE¼;

Sec. 22, SW¼ and W½SE¼;

Sec. 23, SW¼;

Sec. 25, N½, N½SW¼, and N½SE¼;

Sec. 26, NE¼ and S½;

Sec. 27, NE¼ and N½SE¼;

Sec. 28, S½;

Sec. 29, N½.

T. 31 S., R. 47 E.,

Sec. 3;

Sec. 4, lots 1 thru 4, S½NE¼, S½NW¼, and SE¼;

Sec. 5, lots 1 thru 4, S½NE¼, S½NW¼, N½SW¼, and N½SE¼;

Sec. 6, lots 1 thru 5, S½NE¼, and SE¼NW¼;

Sec. 7, SE¼SW¼ and SE¼;

Sec. 8, NW¼ and S½;

Sec. 9, NE¼ and S½;

Secs. 10, 15 thru 22, 27 thru 30, and 34.

T. 32 S., R. 47 E.,

Sec. 3, all the lands in Section 3 not selected within Patent #441652 and Patent #965371 being 102.59 acres.

San Bernardino Meridian, California

T. 12 N., R. 1 E.,

Sec. 1, lots 1 thru 4 and S½NW¼;

Sec. 2, lots 3 thru 8, lots 1 and 2 in NW¼, SW¼NE¼, N½SW¼, and NW¼SE¼;

Secs. 4 and 6.

T. 13 N., R. 1 E.,

Sec. 1;

Sec. 2, all except that portion in MS 6182;

Sec. 3, all except that portion in MS 6182;

Secs. 4 thru 9;

Sec. 10, all except those portions in MS 6182 and MS 6297;

Sec. 11, all except those portions in MS 6182 and MS 6297;

Secs. 12 thru 15 and 17 thru 24;

Sec. 25, NE¼;

Sec. 25, W½ and SE¼ both unsurveyed;

Sec. 26, NW¼;

Sec. 26, NE¼ and S½ both unsurveyed;

Secs. 27 thru 30 and 32;

Sec. 33, N½, N½SW¼, and N½SE¼;

Sec. 34;

Sec. 35, SW¼;

Sec. 35, N½ and SE¼ both unsurveyed.

T. 14 N., R. 1 E.,

Secs. 15, 17 thru 22, and 25 thru 35.

T. 12 N., R. 5 E.,

Sec. 3, lots 5, 7, 8, 9, and 14;

Sec. 4, lots 3 thru 11, SW¼, N½SE¼, and SW¼SE¼;

Sec. 9, lots 2, 4, 6, 7, and 10, W½NW¼, and NW¼SW¼;

Sec. 17, lots 1, 3, 4, 5, 7, 9, and 10, NW¼NE¼, NW¼, and NW¼SW¼.

T. 13 N., R. 5 E.,

Sec. 13, lots 1, 3, and 4, N½NE¼, SW¼NE¼, NW¼, SW¼, and NW¼SE¼;

Sec. 24, lots 2, 3, 7, and 8, N½NW¼, and SW¼NW¼;

Sec. 25, lot 1;

Sec. 26, lots 2, 3, 5, 7, and 8, NW¼NE¼, NW¼, N½SW¼, and SW¼SW¼;

Sec. 34, lots 1, 3, 4, and 5, N½NE¼, SW¼NE¼, NW¼, and SW¼;

Sec. 35, lots 1 and 5.

T. 13 N., R. 6 E.,

Sec. 4, lot 7;

Sec. 5, lots 3, 5, 7, 9, 11, and 17;

Sec. 7, lots 4 thru 9 and 13 thru 17 and NW¼NE¼;

Sec. 18, lots 4 and 5.

T. 14 N., R. 6 E.,

Secs. 1, 2, and 11;

Sec. 12, lots 1 thru 7, W½, and NW¼SE¼;

Sec. 13, lots 1 thru 10, W½NW¼, NW¼SW¼, S½SW¼, and SW¼SE¼;

Secs. 14, 23, and 24;

Sec. 25, lots 1, 2, 5, 7, and 8, W½NE¼, NW¼, and NW¼SW¼;

Sec. 26, lots 1 thru 4, N½, and SW¼;

Sec. 33, lots 1, 3, 4, and 6, N½, N½SW¼, and NW¼SE¼;

Sec. 34, lots 1, 2, 4, 6, and 8, N½NE¼, N½NW¼, and SW¼NW¼;

Sec. 35, lots 2, 4, and 6.

T. 15 N., R. 6 E.,

Secs. 1 and 2;

Sec. 11, lots 1, 2, and 3, NE¼NE¼, W½NE¼, NW¼, SW¼, and W½SE¼;

Sec. 12, lots 3 thru 7, NE¼, N½NW¼, and SE¼;

Sec. 13, lots 3 thru 6, NE¼, S½SW¼, and SE¼;

Sec. 14, lots 2, 3, and 4, W½NE¼, NW¼, SW¼, W½SE¼, and SE¼SE¼;

Secs. 23 thru 26 and 35.

T. 14 N., R. 7 E.,

Sec. 3, lots 6, 7, and 8;

Sec. 4, lots 3 thru 10, 12, and 13, SW¼, and NW¼SE¼;

Secs. 5, 6, and 7;

Sec. 8, lots 1, 2, and 3, N½, SW¼, and NW¼SE¼;

Sec. 9, lots 2, 3, and 6 and NW¼NW¼;

Sec. 17, lots 2, 3, 6, and 7, N½NW¼, SW¼NW¼, and NW¼SW¼;

Sec. 18;

Sec. 19, lots 3 thru 9, 12, 13, and 14 and NW¼NE¼;

Sec. 20, lot 2;

Sec. 30, lot 7.

T. 15 N., R. 7 E.,

Secs. 1 thru 15 and 17;

Sec. 18, lots 3 thru 12, NE¼, and S½SE¼;

Secs. 19 thru 24;

Sec. 25, lots 1, 2, 3, 6, and 8, NW¼NE¼, NW¼, and NW¼SW¼;

Sec. 26, lot 1, N½, SW¼, N½SE¼, and SW¼SE¼;

Secs. 27 thru 33;

Sec. 34, lots 1 and 2, N½, SW¼, and NW¼SE¼;

Sec. 35, lots 2, 3, 4, and 8 and N½NW¼.

T. 15 N., R. 8 E.,

Secs. 6, 7, and 18;

Sec. 19, lots 3 thru 11 and 13, NE¼, and NW¼SE¼;

Sec. 30, lot 4.

The areas described aggregate approximately 101,326 acres.

The following description is of private lands:

Mount Diablo Meridian, California

T. 31 S., R. 46 E.,

Sec. 20, SW¼SW¼.

The areas described aggregate 40 acres.

The following description is of all acquired BLM lands:

Mount Diablo Meridian, California

T. 31 S., R. 46 E.,

Sec. 16, NE¼;

Sec. 20, NE¼NE¼NW¼ and E½NW¼NE¼NW¼;

Sec. 25, S½SW¼ and S½SE¼;

Sec. 27, W½NW¼, E½NW¼, N½SW¼, S½SW¼, and S½SE¼.

San Bernardino Meridian, California

T. 13 N., R. 1 E.,

Sec. 36 unsurveyed.

The areas described aggregate 1,376 acres.

The following description is of all Army lands (acquired):

Mount Diablo Meridian, California

T. 31 S., R. 46 E.,

Sec. 1, W½;

Sec. 2, lots 1 and 2 in NW¼ and S½;

Sec. 3, lots 1 and 2 in NE¼, E½ lot 1 in NW¼, E½ lot 2 in NW¼, SW¼, and SE¼;

Sec. 5, SE¼;

Sec. 9, N½;

Sec. 10, NE¼ and W½;

Sec. 12, SE¼;

Sec. 13, NE¼ and SW¼;

Sec. 14, SW¼ and N½SE¼;

Sec. 16, NW¼ and S½;

Sec. 20, E½NE¼, W½NW¼NE¼NW¼, S½NE¼NW¼, NW¼NW¼, SW¼NW¼, SE¼NW¼, NE¼SW¼, NW¼SW¼, SE¼SW¼, and E½SE¼;

Sec. 21, W½ and SE¼;

Sec. 22, N½ and E½SE¼;

Sec. 23, W½NE¼, E½NE¼, NW¼, and SE¼;

Sec. 24;

Sec. 26, NW¼;

Sec. 28, N½;

Sec. 29, S½.

T. 31 S., R. 47 E.,

Sec. 4, SW¼;

Sec. 5, S½SW¼ and S½SE¼;

Sec. 6, lots 6 and 7, E½SW¼, and SE¼;

Sec. 7, lots 3 and 4, NE¼, NW¼, and NE¼SW¼;

Sec. 8, W½NE¼ and E½NE¼;

Sec. 9, NW¼;

Sec. 33, NE¼, NW¼, and SE¼.

T. 32 S., R. 47 E., sec. 3, lands described in Parcel 44 in Doc. #2004-0374618 recorded in San Bernardino County.

San Bernardino Meridian, California

T. 12 N., R. 1 E.,

Secs. 3 and 5.

T. 13 N., R. 1 E.,

Secs. 16 and 31;

Sec. 33, S½SW¼ and S½SE¼;

M.S. 6182;

M.S. 6297.

T. 14 N., R. 1 E.,

Secs. 16 and 36.

T. 14 N., R. 6 E.,

M.S. 4728;

M.S. 4729.

T. 15 N., R. 6 E.,

Sec. 36;

M.S. 3869;

M.S. 3923.

T. 15 N., R. 7 E.,

Sec. 16;

M.S. 3870.

The areas described aggregate approximately 14,968.51 acres.

Total area described is approximately 117,710.37 acres.

The 2002 Act is incorporated by reference. A complete description, along with all other records and maps pertaining to the 2002 Act, can be examined by appointment during regular business hours in the BLM California State Office at the address listed in the ADDRESSES section.

Before including your address, phone number, email address, or other personal identifying information in your comment, you should be aware that your entire comment—including your personal identifying information—may be made publicly available at any time. Individuals who submit written comments may request confidentiality by asking us in your comment to withhold your personal identifying information from public review; however, we cannot guarantee that we will be able to do so.

The withdrawal extension application will be processed in accordance with the regulations set forth in 43 CFR 2310.4, section 3 of Public Law 85-337 (43 U.S.C. 157) (Engle Act), and Public Law 107-107.

(Authority: Pub. L. 85-337 and Pub. L. 107-107)

Gordon R. Toevs,
Acting California State Director.

[FR Doc. 2024-16507 Filed 7-25-24; 8:45 am]

BILLING CODE 4331-15-P